DEPARTMENT OF JUSTICE

Antitrust Division

Notice Pursuant to the National Cooperative Research and Production Act of 1993—MLCommons Association

Notice is hereby given that, on February 25, 2022, pursuant to Section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Matt Sinclair (individual member), Madison, WI; Serenade Labs Inc., San Francisco, CA; Asustek Computer Incorporation, Taipei City, TAIWAN; New H3C Technologies Co., Ltd., Hangzhou, PEOPLE'S REPUBLIC OF CHINA; Deep AI Technologies, Caesarea, ISRAEL; Formativ, Paris, FRANCE; Biren Technology, San Jose, CA; Coactive Systems, Inc., San Jose, CA; and Yinhe Han (individual member), Beijing, PEOPLE'S REPUBLIC OF CHINA, have been added as parties to this venture.

No other changes have been made in either the membership or planned activity of the group research project. Membership in this group research project remains open, and MLCommons intends to file additional written notifications disclosing all changes in membership.

On September 15, 2020, MLCommons filed its original notification pursuant to Section 6(a) of the Act. The Department of Justice published a notice in the Federal Register pursuant to Section 6(b) of the Act on September 29, 2020 (85 FR 61032).

The last notification was filed with the Department on December 3, 2021. A notice was published in the Federal Register pursuant to Section 6(b) of the Act on January 13, 2022 (87 FR 2183).

Suzanne Morris,
Chief, Premerger and Division Statistics, Antitrust Division.

[FR Doc. 2022-05457 Filed 3-14-22; 8:45 am]

BILLING CODE 4410-11-P